COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be provided by a nonprofit agencies employing persons who are blind or have other severe disabilities, and deletes products from the Procurement List previously furnished by such agencies.

DATES: Date added to and deleted from the Procurement List: May 13, 2018.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 3/2/2018 (83 FR 42), the Committee for Purchase From People Who Are Blind or Severely Disabled published notice of proposed additions to the Procurement List.

After consideration of the material presented to it concerning capability of qualified nonprofit agencies to furnish the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing a small entity to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s):

7045-00-NIB-0012—Pack, Power, Portable, 12000mAh, Black

7045-00-NIB-0013—Pack, Power, Portable, 6000mAh, Black

Mandatory Source of Supply: North Central Sight Services, Inc., Williamsport, PA

Contracting Activity: General Services Administration, New York, NY

Distribution: A-List

Services

Service Type: Base Supply Center Service

Mandatory for: US Army, Picatinny Arsenal, Picatinny Arsenal, NJ

Mandatory Source of Supply: Central Association for the Blind & Visually Impaired, Utica, NY

Contracting Activity: Dept of the Army, W6QK ACC-PICA

Service Type: Records Management Service

Mandatory for: US Navy, Military Sealift Command, Naval Station Norfolk, 471 East C Street, Norfolk, VA

Mandatory Source of Supply: VersAbility Resources, Inc., Hampton, VA

Contracting Activity: Dept of the Navy, MSC Norfolk

Deletions

On 3/2/2018 (83 FR 42) and 3/9/2018 (83 FR 42), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products are deleted from the Procurement List:

Products

NSN(s)—Product Name(s):

8440-00-160-6843—Scarf, Air Force, Men's, Gray

8440-00-823-7520—Scarf, Air Force, Men's, Olive Green

8440-01-005-2558—Scarf, Air Force, Men's, Blue

8440-01-523-5765—Scarf, Air Force, Men's, Black

Mandatory Source of Supply: ASPIRO, Inc., Green Bay, WI

Contracting Activity: Defense Logistics Agency Troop Support

NSN(s)—Product Name(s):

6530-00-290-8292—Urinal, Incontinent

6530-00-NIB-0061—Catheter, External, Male, Self-Adhering, Pop-on

6530-00-NIB-0062—Catheter, External, Male, Self-Adhering, Pop-on

6530-00-NIB-0063—Catheter, External, Male, Self-Adhering, Pop-on

6530-00-NIB-0064—Catheter, External, Male, Self-Adhering, Pop-on

6530-00-NIB-0065—Catheter, External, Male, Self-Adhering, Pop-on

Mandatory Source of Supply: The Lighthouse for the Blind, St. Louis, MO

Contracting Activity: Department of Veterans Affairs, Strategic Acquisition Center

NSN(s)—Product Name(s): 8475-01-142-5648—Nape Strap

Mandatory Source of Supply: Cambria County Association for the Blind and Handicapped, Johnstown, PA

Contracting Activity: Defense Logistics Agency Troop Support

Service

Service Type: Janitorial/Custodial Service

Mandatory for: Naval Air Station: ARCOM Buildings 176 & 177, Willow Grove, PA

Mandatory Source of Supply: The Chimes, Inc., Baltimore, MD

Contracting Activity: Dept of the Navy, Naval FAC Engineering CMD MID LANT

Amy Jensen,
Director, Business Operations.

[FR Doc. 2018-07696 Filed 4-12-18; 8:45 am]

BILLING CODE 6353-01-P